DEPARTMENT OF COMMERCE

Foreign-Trade Zones Board

[Order No. 1638]

Reorganization/Expansion of Foreign-Trade Zone 26; Atlanta, GA, Area

Pursuant to its authority under the Foreign-Trade Zones Act of June 18, 1934, as amended (19 U.S.C. 81a-81u), the Foreign-Trade Zones Board (the Board) adopts the following Order:

Whereas, the Georgia Foreign-Trade Zone, Inc., grantee of Foreign-Trade Zone 26, submitted an application to the Board for authority to reorganize and expand its zone to remove acreage from Site 2, delete Site 8 in its entirety, and add eight new sites (proposed Sites 11-18) in the Atlanta, Georgia, area, within and adjacent to the Atlanta Customs and Border Protection port of entry (FTZ Docket 55-2008, filed 10/6/08);

Whereas, notice inviting public comment was given in the Federal Register (73 FR 60676-60677, 10/14/08; correction, 73 FR 63675, 10/27/08) and the application has been processed pursuant to the FTZ Act and the Board's regulations; and,

Whereas, the Board adopts the findings and recommendation of the examiner's report, and finds that the requirements of the FTZ Act and Board's regulations are satisfied, and that the proposal, with respect to Site 2, Site 8 and Sites 11-17, is in the public interest;

Now, therefore, the Board hereby orders:

The application to reorganize and expand FTZ 26 is approved in part (with respect to Site 2, Site 8 and Sites 11-17), subject to the FTZ Act and the Board's regulations, including Section 400.28, and to the Board's standard 2,000-acre activation limit for the overall general-purpose zone project, and further subject to a sunset provision that would terminate authority on August 31, 2014, for Sites 11-17 where no activity has occurred under FTZ procedures before that date.

Signed at Washington, DC, this 7th day of August 2009.
Ronald K. Lorentzen,
Acting Assistant Secretary of Commerce for Import Administration, Alternate Chairman, Foreign-Trade Zones Board.
Andrew McGilvray,
Executive Secretary.

[FR Doc. E9-20025 Filed 8-19-09; 8:45 am]

BILLING CODE P